ENVIRONMENTAL PROTECTION AGENCY

[ER-FRL-6648-3]

Environmental Impact Statements; Notice of Availability

Responsible Agency: Office of Federal Activities, General Information (202) 564-7167 or http://www.epa.gov/compliance/nepa/.

Weekly receipt of Environmental Impact Statements

Filed February 2, 2004 Through February 6, 2004

Pursuant to 40 CFR 1506.9.

EIS No. 040055, Final Supplement, AFS, OR, Deep Vegetation Management Project, Implementation, Preferred Alternative C was Selected, Ochoo National Forest, Paulina Ranger District, Crook and Wheeler Counties, OR, Wait Period Ends: March 15, 2004, Contact: Mike Lawrence (541) 477-6900.

This document is available on the Internet at: http://www.fs.fed.us/r6/centraloregon

EIS No. 040056, Draft EIS, FRA, CA, California High-Speed Train System, Proposes a High-Speed Train (HST) System for Intercity Travel, Extending from Sacramento and the San Francisco Bay Area in the north, through Central Valley, to Los Angeles and San Diego in the south, Orange County, CA, Comment Period Ends: May 14, 2004, Contact: David Valenstein (202) 493-6368.

This document is available on the Internet at: http://www.cahighspeedrail.ca.gov.

EIS No. 040057, Final EIS, NPS, NJ, Morristown National Historical Park General Management Plan, Implementation, Morris and Somerset Counties, NJ, Wait Period Ends: March 15, 2004, Contact: Brian Aviles (617) 223-5319.

EIS No. 040058, Final EIS, DOE, Hanford Site Solid (Radioactive and Hazardous) Waste Program, New Information on Waste Management Alternatives, Waste Management Practices Enhancement for Low-Level Radioactive Waste, Mixed Low-Level Radioactive Waste and Transuranic Waste, Richland, Benton County, WA, Wait Period Ends: March 15, 2004, Contact: Michael S. Collins (509) 376-6536.

EIS No. 040059, Draft EIS, AFS, AZ, Arizona Snowbowl Facilities Improvements, Proposal to Provide a Consistent/Reliable Operating Season, Coconino National Forest, Coconino County, AZ , Comment Period Ends: March 29, 2004, Contact: Ken Jacobs (928) 774-1147.

This document is available on the Internet at: http//www.nws.usace.army.mil.

EIS No. 040060, Draft EIS, USA, GA, Digital Multi-Purpose Range Complex at Fort Benning, Construction, Operation and Maintenance, Gunnery Training Facilities for the Bradley Fighting Vehicle (BFV) and the Abrams M1A1 Tank System (Tank), Fort Benning, GA, Comment Period Ends: March 29, 2004, Contact: Richard McDowell (706) 545-2211.

This document is available on the Internet at: http://www.benning.army.mil/EMD/Legal&PublicNotices.htm.

EIS No. 040061, Draft EIS, BIA, UT, Tekoi Balefill Project on the Skull Valley Band of Goshute Indians Reservation, Approval of Long-Term Lease of Indian Land for a Commercial Solid Waste Disposal Facility, Salt Lake City, Tooele County, UT, Comment Period Ends: March 29, 2004, Contact: Amy Heuslein (602) 379-6750.

EIS No. 040062, Draft Supplement, NOA, Proposed Rule to Implement Management Measures for the Reduction of Sea Turtle Bycatch and Bycatch Mortality in the Atlantic Pelagic Longline Fishery, Comment Period Ends: March 15, 2004, Contact: Christopher Roger (301) 713-2347. Under Section 1502.9(c)(4) the CEQ has Approved Alternative Procedures for the above project by Granting a 31-day Public Comment Period.

EIS No. 040063, Draft EIS, AFS, AK, Couverden Timber Sales, Harvesting Timber, NPDES, Coast Guard Bridge Permit, U.S. Army COE Section 10 and 404 Permits, Tongass National Forest, Juneau Ranger District, Chilkat Peninsula, AK, Comment Period Ends: March 29, 2004, Contact: Dave Carr (907) 586-8800.

EIS No. 040064, Draft Supplement, EPA, MS, FL, AL, Eastern Gulf of Mexico Offshore Oil and Gas Extraction, Updated Information on Issuance of New National Pollutant Discharge Elimination System General Permit and the Ocean Discharge Criteria Evaluation, MS, AL and FL, Comment Period Ends: April 13, 2004, Contact: Lena Scott (404) 562-9607.

This document is available on the Internet at: http://www.epa.gov/region4/water/permits.

EIS No. 040065, Final EIS, FHW, MS, Airport Parkway Extension, Improvements to MS-475 from I-20 to Old Brandon Road, U.S. Army COE Section 404 Permit, Rankin County, MS, Wait Period Ends: March 15, 2004, Contact: Cecil W. Vick, Jr. (601) 965-4217.

Amended Notices

EIS No. 030567, DRAFT EIS, FHW, NY, NY-17 Parksville/SH-5223, Liberty-County Line, Part 1 Construction and Reconstruction to Interstate Standards, Funding and U.S. Army COE Section 404 Permit Issuance, Town of Liberty, Sullivan County, NY, Comment Period Ends: February 18, 2004, Contact: Robert E. Arnold (518) 472-3636. Revision of FR Notice Published on 12/24/2004: CEQ Comment Period Ending 2/06/2004 has been Corrected to 2/18/2004

Dated: February 10, 2004.
Ken Mittelholtz,
Environmental Protection Specialist, Office of Federal Activities.

[FR Doc. 04-3233 Filed 2-12-04; 8:45 am]

BILLING CODE 6560-50-P